DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Steller Sea Lion Protection Economic Survey.

Form Number(s): None.

OMB Approval Number: None.

Type of Request: Regular submission.

Burden Hours: 1,373.

Number of Respondents: 3,325.

Average Hours per Response: Mail survey, 30 minutes; follow-up telephone survey, 6 minutes.

Needs and Uses: The objective of the survey is to collect data for measuring the preferences, and economic values, that U.S. residents have for protecting Steller sea lions, a listed species under the Endangered Species Act. These preferences are currently not known, but are needed for decision makers to more fully understand the trade-offs involved in choosing among protection alternatives and to complement other information available about the costs, benefits, and impacts of Steller sea lion protection alternatives. The data collection consists of conducting a mail survey of U.S. households.

Affected Public: Individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 4, 2006.
Gwellnar Banks,
Management Analyst, Office of the Chief Information Officer.

[FR Doc. E6-20793 Filed 12-7-06; 8:45 am]

BILLING CODE 3510-22-P